DEPARTMENT OF JUSTICE

Antitrust Division

Notice Pursuant to the National Cooperative Research and Production Act of 1993—IMS Global Learning Consortium, Inc.

Notice is hereby given that, on October 11, 2001, pursuant to Section 6(a) of the National Cooperative Research and Production Act of 1993, 15 U.S.C. 4301 et seq. (“the Act”), IMS Global Learning Consortium, Inc. has filed written notifications simultaneously with the Attorney General and the Federal Trade Commission disclosing changes in its membership status. The notifications were filed for the purpose of extending the Act's provisions limiting the recovery of antitrust plaintiffs to actual damages under specified circumstances. Specifically, Advanced Distributed Learning Co-Laboratories, Alexandria, VA; British Educational Communications and Technology Agency (Becta), Coventry, England, United Kingdom; Can Studios Ltd., Sheffield, England, United Kingdom; Docent, Inc., Mountain View, CA; Epic Group Plc, Brighton, England, United Kingdom; Learning Objects Networks, Inc., Waitsfield, VT; University of Wisconsin System, Madison, WI; NYUOnline, Inc., New York, NY; and Scottish Ufl Ltd., Glasgow, Scotland, United Kingdom have been added as parties to this venture.

No other changes have been made in either the membership or planned activity of the group research project. Membership in this group research project remains open, and IMS Global Learning Consortium, Inc. intends to file additional written notification disclosing all changes in membership.

On April 7, 2000, IMS Global Learning Consortium, Inc. filed its original notification pursuant to Section 6(a) of the Act. The Department of Justice published a notice in the Federal Register pursuant to Section 6(b) of the Act on September 13, 2000 (65 FR 55283).

The last notification was filed with the Department on July 18, 2001. A notice was published in the Federal Register pursuant to Section 6(b) of the Act on August 15, 2001 (66 FR 42877).

Constance K. Robinson,
Director of Operations, Antitrust Division.

[FR Doc. 01-30164 Filed 12-4-01; 8:45 am]

BILLING CODE 4410-11-M